DEPARTMENT OF THE INTERIOR

Fish and Wildlife Service

Turnbull National Wildlife Refuge

AGENCY: Fish and Wildlife Service, Interior.

ACTION: Notice of availability of the Turnbull National Wildlife Refuge Comprehensive Conservation Plan and Finding of No Significant Impact.

SUMMARY: The Fish and Wildlife Service (Service) has completed a Comprehensive Conservation Plan (CCP) and Finding of No Significant Impact (FONSI) for the Turnbull National Wildlife Refuge (Refuge). The CCP was developed to provide a foundation for the management and use of the Refuge. The Service is furnishing this notice to advise other agencies and the public of the availability of the CCP and FONSI, and the decision to implement Alternative 3 as described in the CCP. The Service's Regional Director for the Pacific Region selected Alternative 3 for managing the Refuge for the next 15 years. Changes to Refuge management include: Addition of an elk hunting program, addition of a youth waterfowl hunt, expansion of the Refuge, and expansion of the interpretive, environmental education, wildlife viewing, and wildlife photography facilities and programs.

DATES: The CCP and FONSI are now available. Implementation of the CCP may begin immediately.

ADDRESSES: Printed copies of the CCP and FONSI are available for viewing at the Turnbull National Wildlife Refuge, 26010 S. Smith Road, Cheney, WA 99004, and may be obtained by visiting or writing to the Refuge. These documents are also available for viewing and downloading on the Internet at http://www.fws.gov/pacific/planning/.

FOR MORE INFORMATION CONTACT: Nancy Curry, Refuge Manager, Turnbull National Wildlife Refuge, phone number (509) 235-4723.

SUPPLEMENTARY INFORMATION: Turnbull Refuge is part of the National Wildlife Refuge System administered by the Service. The National Wildlife Refuge System Administration Act of 1966 (Refuge Administration Act), as amended by the National Wildlife Refuge System Improvement Act of 1997 (16 U.S.C. 668dd-668ee), requires all units of the National Wildlife Refuge System to be managed in accordance with an approved CCP. A CCP provides management direction and identifies refuge goals, objectives, and strategies for achieving refuge purposes. The CCP and FONSI for Turnbull Refuge were prepared pursuant to the National Environmental Policy Act (NEPA), as amended, and its implementing regulations, the Refuge Administration Act, and Service policies.

Turnbull Refuge is located in eastern Washington in the southwest corner of Spokane County and protects a portion of the extensive Channeled Scablands geological formation, which was created by massive scouring from Ice Age floods fifteen thousand years ago. Due to the unusual topography and soil conditions rendered by the floods, the Refuge and surrounding lands within the Study Area comprise a unique assemblage of habitats in a semi-arid and fragile landscape. Turnbull Refuge contributes substantially to the conservation of fish, wildlife, and native habitats of the Channeled Scablands.

During the CCP planning process for the Refuge many elements were considered, including wildlife management and habitat protection, off-Refuge wildlife-dependent recreational and educational opportunities, and coordination with tribal, State, and Federal agencies and other interested groups. The Draft CCP and associated Environmental Assessment identified and evaluated four alternatives for managing Turnbull Refuge. The Draft CCP was available for a 45-day public review and comment period which included two open house public meetings. The Service received nearly 100 responses and a petition on the Draft CCP, which were incorporated into, or responded to in the final CCP. No substantive changes were required to address public comments.

Implementing the CCP will encompass the following key actions:

With partners, the Service will actively engage in land conservation within a Stewardship Area surrounding the Refuge, using a variety of tools, including acquisition, conservation easements, cooperative agreements, and technical assistance programs. Land conservation is proposed to address threats to Refuge purposes and integrity as well as to provide opportunities for conservation of Palouse steppe, wetland, aspen/riparian, and ponderosa pine forest habitats that support several threatened species. In addition, the Service would seek protection within the National Wildlife Refuge System of up to 12,000 acres by fee, easement, or agreement from willing sellers on priority lands within the Stewardship Area.

The Service will initiate an annual elk hunting program at the Refuge, to address habitat damage issues as well as provide a recreational opportunity. The number of permits, length of season and seasons offered would vary depending upon the amount of aspen damage observed each year. The Service will also offer a youth waterfowl hunt. Hunting will be allowed to begin after preparation of a step-down Sport Hunting Plan, as well as publication of regulations in the Federal Register.

The Service will increase the Environmental Education program, both on and off-Refuge, increase viewpoint and interpretive opportunities on the Refuge, add a small interpretive exhibit area (co-located with new office space), provide more trail miles, and link the Public Use Area to the State's Columbia Plateau Trail with a bike trail. If the Refuge were to acquire contiguous additional lands, up to 10 additional trail miles could be added as well as several thousand acres for elk or waterfowl hunting.

Dated: April 16, 2007.
David J. Wesley,
Acting Regional Director, Region 1, Portland, Oregon.

[FR Doc. E7-12086 Filed 6-21-07; 8:45 am]

BILLING CODE 4310-55-P